DEPARTMENT OF THE TREASURY

Fiscal Service

Surety Companies Acceptable on Federal Bonds—Redomestication and Change in Business Address; National Farmers Union Property and Casualty Company

AGENCY: Financial Management Service, Fiscal Service, Department of the Treasury.

ACTION: Notice.

SUMMARY: This is Supplement No. 10 to the Treasury Department Circular 570, 2010 Revision, published July 1, 2010, at 75 FR 38192.

FOR FURTHER INFORMATION CONTACT: Surety Bond Branch at (202) 874-6850.

SUPPLEMENTARY INFORMATION: Notice is hereby given by the Treasury that, National Farmers Union Property and Casualty Company (NAIC # 16217) has re-domesticated from the state of Colorado to the state of Wisconsin, effective October 1, 2010. In addition, National Farmers Union Property and Casualty Company (NAIC #16217) has formally changed its “Business Address” to, “One General Drive, Sun Prairie, Wisconsin 53596”, effective October 1, 2010. Federal bond-approving officials should annotate their reference copies of the Treasury Department Circular 570 (“Circular”), 2010 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: June 22, 2011.
Laura Carrico,
Director, Financial Accounting and Services Division, Financial Management Service.

[FR Doc. 2011-16205 Filed 6-29-11; 8:45 am]

BILLING CODE 4810-35-M